DEPARTMENT OF HOMELAND SECURITY

U.S. Customs and Border Protection

19 CFR Chapter I

Arrival Restrictions Applicable to Flights Carrying Persons Who Have Recently Traveled From or Were Otherwise Present Within the Democratic Republic of the Congo or the Republic of Guinea

AGENCY: U.S. Customs and Border Protection, Department of Homeland Security.

ACTION: Announcement of arrival restrictions.

SUMMARY: This document announces the decision of the Secretary of Homeland Security to direct all flights to the United States carrying persons who have recently traveled from, or were otherwise present within, the Democratic Republic of the Congo or the Republic of Guinea to arrive at one of the U.S. airports where the U.S. government is focusing public health resources to implement enhanced public health measures. For purposes of this document, a person has recently traveled from the Democratic Republic of the Congo or the Republic of Guinea if that person has departed from, or was otherwise present within, the Democratic Republic of the Congo or the Republic of Guinea within 21 days of the date of the person's entry or attempted entry into the United States. Also, for purposes of this document, crew and flights carrying only cargo (i.e., no passengers or non-crew), are excluded from the measures herein.

DATES: The arrival restrictions apply to flights departing after 11:59 p.m. Eastern Standard Time on March 4, 2021. Arrival restrictions continue until cancelled or modified by the Secretary of Homeland Security and notice of such cancellation or modification is published in the Federal Register.

FOR FURTHER INFORMATION CONTACT: Alyce Modesto, Office of Field Operations, U.S. Customs and Border Protection at 202-286-8995.

SUPPLEMENTARY INFORMATION:

Background

Ebola Virus Disease (EVD), caused by the virus family Filoviridae, is a severe and often fatal disease that can affect humans and non-human primates. Disease transmission occurs via direct contact with bodily fluids (e.g., blood, mucus, vomit, urine). The first known EVD outbreak occurred in 1976. From 2013-2016, the largest EVD outbreak occurred in West Africa, primarily affecting Guinea, Liberia, and Sierra Leone, with cases exported to seven additional countries across three continents. The epidemic demonstrated the potential for EVD to become an international crisis in the absence of early intervention. Further, EVD can have substantial medical, public health, and economic consequences if it spreads to densely populated areas. As such, EVD may present a threat to U.S. health security given the unpredictable nature of outbreaks and the interconnectedness of countries through global travel.

On February 7, 2021, the World Health Organization (WHO) reported the resurgence of EVD, following the laboratory confirmation of one case in North Kivu Province, in the Democratic Republic of the Congo (DRC). As of February 23, 2021, eight confirmed EVD cases, including four deaths, have been reported. Although the source of infection is still under investigation, it is believed this outbreak is linked to the 2018-2020 EVD outbreak in the eastern DRC, the second largest EVD outbreak on record, which was officially declared over on June 25, 2020 by the WHO and the Ministry of Health in the DRC.

On February 14, 2021, the WHO reported a new outbreak of EVD in the southern prefecture of Nzérékoré, Guinea. The prefecture is located near the borders of Liberia and the Ivory Coast. As of February 23, 2021, Guinean officials have reported nine confirmed cases and at least five deaths. The WHO expects additional cases to be confirmed in the coming days and have warned six neighboring countries (Guinea-Bissau, Ivory Coast, Liberia, Mali, Senegal, and Sierra Leone) to be on alert for potential infections.

In order to assist in preventing or limiting the introduction and spread of this communicable disease into the United States, the Departments of Homeland Security and Health and Human Services, including the Centers for Disease Control and Prevention (CDC), and other agencies charged with protecting the homeland and the American public, are currently implementing enhanced public health measures at six U.S. airports that receive the largest number of travelers from the DRC and the Republic of Guinea. To ensure that all travelers with recent presence in the affected countries arrive at one of these airports, DHS is directing all flights to the United States carrying such persons to arrive at the airports where the enhanced public health measures are being implemented. While DHS, in coordination with other applicable federal agencies, anticipates working with the air carriers in an endeavor to identify potential travelers from the affected countries prior to boarding, air carriers will remain obligated to comply with the requirement of this notice, particularly in the event that travelers who have recently traveled from or were otherwise present within, the affected countries are boarded on flights bound for the United States.

Notice of Arrival Restrictions Applicable to All Flights Carrying Persons Who Have Recently Traveled From or Were Otherwise Present Within the Democratic Republic of the Congo or the Republic of Guinea

Pursuant to 6 U.S.C. 112(a), 19 U.S.C. 1433(c), and 19 CFR 122.32, DHS has the authority to limit the location where all flights entering the United States from abroad may land. Under this authority and effective for flights departing after 11:59 p.m. Eastern Standard Time on March 4, 2021, I hereby direct all operators of aircraft to ensure that all flights carrying persons who have recently traveled from, or were otherwise present within, the DRC or the Republic of Guinea only land at one of the following airports:

• John F. Kennedy International Airport (JFK), New York;

• Chicago O'Hare International Airport (ORD), Illinois;

• Hartsfield-Jackson Atlanta International Airport (ATL), Georgia;

• Washington-Dulles International Airport (IAD), Virginia;

• Newark Liberty International Airport (EWR), New Jersey; and

• Los Angeles International Airport (LAX), California.

This direction considers a person to have recently traveled from the DRC or the Republic of Guinea if that person departed from, or was otherwise present within, the DRC or the Republic of Guinea within 21 days of the date of the person's entry or attempted entry into the United States. Also, for purposes of this document, crew and flights carrying only cargo (i.e., no passengers or non-crew), are excluded from the applicable measures set forth in this notification. This direction is subject to any changes to the airport landing destination that may be required for aircraft and/or airspace safety as directed by the Federal Aviation Administration.

This list of designated airports may be modified by the Secretary of Homeland Security in consultation with the Secretary of Health and Human Services and the Secretary of Transportation. This list of designated airports may be modified by an updated publication in the Federal Register or by posting an advisory to follow at www.cbp.gov. The restrictions will remain in effect until superseded, modified, or revoked by publication in the Federal Register.

For purposes of this Federal Register document, “United States” means the territory of the several States, the District of Columbia, and Puerto Rico.

Alejandro N. Mayorkas,
Secretary, U.S. Department of Homeland Security.

[FR Doc. 2021-04594 Filed 3-2-21; 4:15 pm]

BILLING CODE 9112-FP-P